DEPARTMENT OF HEALTH AND HUMAN SERVICES

Substance Abuse and Mental Health Services Administration

Fiscal Year (FY) 2023 Notice of Supplemental Funding Opportunity

AGENCY: Substance Abuse and Mental Health Services Administration, Department of Health and Human Services (HHS).

ACTION: Notice of intent to award supplemental funding.

SUMMARY: This notice is to inform the public that the Substance Abuse and Mental Health Services Administration (SAMHSA) is supporting administrative supplements in scope of the parent award for the 11 eligible grant recipients funded in FY 2018 under the Mental Health Technology Transfer Centers (MHTTCs) Cooperative Agreements, Notice of Funding Opportunity (NOFO) SM-18-005. The MHTTC National Coordinating Center may receive up to $900,000 and the 10 MHTTC Regional Centers may receive up to $1,045,454 each. These recipients have a project end date of September 29, 2023. The supplemental funding will extend the project period by one-year and will continue to support resource development and dissemination, training and technical assistance, and workforce development to the field and provide direct technical assistance and training on the delivery of mental health services in schools and school systems to CMHS Project AWARE grantees.

FOR FURTHER INFORMATION CONTACT: Kimberly E. Reynolds, MPA, MEd, Public Health Advisor and Project Officer, Substance Abuse and Mental Health Services Administration, 5600 Fishers Lane, Rockville, MD 20857, telephone (240) 276-2825; email: Kimberly.Reynolds@samhsa.hhs.gov.

SUPPLEMENTARY INFORMATION:

Funding Opportunity Title: FY 2018 Mental Health Technology Transfer Centers Cooperative Agreements SM-18-015.

Assistance Listing Number: 92.243.

Authority: Section 520A of the Public Health Service Act, as amended.

Justification: Eligibility for this supplemental funding is limited to the 10 MHTTC Regional Centers and MHTTC National Coordinating Office funded under the MTTC Cooperative Agreements funding announcement SM-18-005, as they are currently providing nationally- and regionally-focused training and technical assistance services, resource development and dissemination, and workforce development to the field and CMHS grant recipients, which will continue to be funded through this supplement.

This is not a formal request for application. Assistance will only be provided to the 10 MHTTC Regional Centers and MHTTC National Coordinating Center recipients based on the receipt of a satisfactory application and associated budget that is approved by a review group.

Dated: March 31, 2023.
Carlos Castillo,
ECSB Acting Branch Chief, SAMHSA.

[FR Doc. 2023-07132 Filed 4-5-23; 8:45 am]

BILLING CODE 4162-20-P